DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and marine mammals.

DATES: Written data, comments or requests must be received by April 3, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

PRT-108865

Applicant: Kimberly A. Vinette Herrin, D.V.M., Canton, GA.

The applicant requests a permit to import biological samples from wild hawksbill sea turtle (Eretmochelys imbricata) and leatherback sea turtle (Dermochelys coriacea) for the purpose of scientific research. Samples will be collected opportunistically from live sea turtles and will be used for analyses of the immune function of oviductal secretions. A notification was already published for the hawksbill sea turtle; however, the applicant requested the addition of the leatherback sea turtle to the same permit. This notification covers activities to be conducted by the applicant over a five-year period.

PRT-117186

Applicant: Paul E. Hostetler, Nokomis, FL.

The applicant requests a permit to import the sport-hunted trophy of one male bontebok (Damaliscus pygargus pygargus) culled from a captive herd maintained under the management program of the Republic of South Africa, for the purpose of enhancement of the survival of the species.

PRT-114454

Applicant: Hantig, Anton & Fercos, Ferdinand, Las Vegas, NV.

The applicant requests permits to export a captive-born live tiger (Panthera tigris) “Dora” to worldwide locations for the purpose of enhancement of the species through conservation education. This notification covers activities to be conducted by the applicant over a three-year period and the import of any potential progeny born while overseas.

PRT-761887

Applicant: American Museum of Natural History, New York, NY.

The applicant requests a permit to export and re-import non-living museum specimens of endangered and threatened animals and plants species that was previously accessioned into the applicant's collection for scientific research. This notification covers activities to be conducted by the applicant over a five-year period.

Endangered Marine Mammals and Marine Mammals

The public is invited to comment on the following applications for a permit to conduct certain activities with endangered marine mammals and marine mammals. The applications were submitted to satisfy requirements of the Endangered Species Act of 1973, as amended (16 U.S.C. 1531 et seq.) and the Marine Mammal Protection Act of 1972, as amended (16 U.S.C. 1361 et seq.), and the regulations governing endangered species (50 CFR part 17) and marine mammals (50 CFR part 18). Written data, comments, or requests for copies of the complete applications or requests for a public hearing on these applications should be submitted to the Director (address above). Anyone requesting a hearing should give specific reasons why a hearing would be appropriate. The holding of such a hearing is at the discretion of the Director.

PRT-113725

Applicant: Mark T. Clementz, University of Wyoming, Laramie, WY.

The applicant requests a permit to take and import biological samples from wild and captive populations of the following species: dugong (Dugong dugon), West Indian manatee (Trichechus manatus), Amazonian manatee (T. inunguis), and African manatee (T. senegalensis) for the purpose of scientific research on sirenian dietary isotope fractionation. This notification covers activities to be conducted by the applicant over a five-year period.

Concurrent with the publication of this notice in the Federal Register, the Division of Management Authority is forwarding copies of the above applications to the Marine Mammal Commission and the Committee of Scientific Advisors for their review.

PRT-118770

Applicant: Kenneth B. Crary, Verona, WI.

The applicant requests a permit to import a polar bear (Ursus maritimus) sport hunted from the Lancaster Sound polar bear population in Canada for personal, noncommercial use.

Applicant: Wallace T. Schafer, Queen Creek, AZ.

PRT-112563

The applicant requests a permit to import a polar bear (Ursus maritimus) sport hunted from the Northern Beaufort Sea polar bear population in Canada for personal, noncommercial use.

Dated: February 10, 2006.
Monica Farris,
Senior Permit Biologist, Branch of Permits, Division of Management Authority.

[FR Doc. E6-2921 Filed 3-1-06; 8:45 am]

BILLING CODE 4310-55-P